DEPARTMENT OF TRANSPORTATION

Federal Aviation Administration

14 CFR Part 39

[Docket No. FAA-2013-0262; Directorate Identifier 2013-NE-13-AD; Amendment 39-17548; AD 2013-16-10]

RIN 2120-AA64

Airworthiness Directives; Hamilton Standard Division and Hamilton Sundstrand Corporation Propellers

AGENCY: Federal Aviation Administration (FAA), DOT.

ACTION: Final rule.

SUMMARY: We are adopting a new airworthiness directive (AD) for Hamilton Standard Division model 6/5500/F and 24PF and Hamilton Sundstrand Corporation model 14RF, 14SF, 247F, and 568F series propellers. This AD was prompted by the amount of corrosion detected during major inspections (MI). This AD requires incorporating inspections, based on a calendar time, into the propeller maintenance schedule. We are issuing this AD to prevent corrosion that could result in propeller failure and loss of airplane control.

DATES: This AD is effective September 19, 2013.

ADDRESSES: The Docket Operations office is located at Docket Management Facility, U.S. Department of Transportation, 1200 New Jersey Avenue SE., West Building Ground Floor, Room W12-140, Washington, DC 20590-0001.

For service information identified in this AD, contact Hamilton Sundstrand Corporation, One Hamilton Road, Mail Stop 1A-3-C63, Windsor Locks, CT 06096-1010; or Hamilton Standard Division, One Hamilton Road, United Technologies Corporation, Mail Stop 1A-3-C63, Windsor Locks, CT 06096-1010; phone: 877-808-7575; fax: 860-660-0372; email: tech.solutions@hs.utc.com; Internet: http://myhs.hamiltonsundstrand.com. You may view this service information at the FAA, Engine & Propeller Directorate, 12 New England Executive Park, Burlington, MA 01803. For information on the availability of this material at the FAA, call 781-238-7125.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is provided in the ADDRESSES section. Comments will be available in the AD docket shortly after receipt.

FOR FURTHER INFORMATION CONTACT: Michael Schwetz, Aerospace Engineer, Boston Aircraft Certification Office, FAA, 12 New England Executive Park, Burlington, MA 01803; phone: 781-238-7761; fax: 781-238-7170; email: michael.schwetz@faa.gov.

SUPPLEMENTARY INFORMATION:

Discussion

We issued a notice of proposed rulemaking (NPRM) to amend 14 CFR part 39 to include an AD that would apply to the specified products. The NPRM published in the Federal Register on May 23, 2013 (78 FR 30795). The NPRM proposed to require incorporating inspections, based on a calendar time, into the propeller maintenance schedule.

Comments

We gave the public the opportunity to participate in developing this AD. We received no comments on the NPRM (78 FR 30795, May 23, 2013) or on the determination of the cost to the public.

Conclusion

We reviewed the relevant data and determined that air safety and the public interest require adopting this AD as proposed except for minor editorial changes. We have determined that these minor changes:

• Are consistent with the intent that was proposed in the NPRM (78 FR 30795, May 23, 2013) for correcting the unsafe condition; and

• Do not add any additional burden upon the public than was already proposed in the NPRM (78 FR 30795, May 23, 2013).

Costs of Compliance

We estimate that this AD affects about 1,044 propeller/hub combinations installed on airplanes of U.S. registry. We also estimate that it will take about 160 hours per propeller to perform one MI. The average labor rate is $85 per hour. Based on these figures, we estimate the cost of this AD on U.S. operators to be $14,198,400.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-16-10 Hamilton Standard Division and Hamilton Sundstrand Corporation: Amendment 39-17548; Docket No. FAA-2013-0262; Directorate Identifier 2013-NE-13-AD.

(a) Effective Date

This AD is effective September 19, 2013.

(b) Affected ADs

None.

(c) Applicability

This AD applies to Hamilton Standard Division 6/5500/F and 24PF and Hamilton Sundstrand Corporation 14RF, 14SF, 247F, and 568F series propellers.

(d) Unsafe Condition

This AD was prompted by the amount of corrosion detected during major inspections (MI). We are issuing this AD to prevent corrosion that could result in propeller failure and loss of airplane control.

(e) Compliance

Comply with this AD within the compliance times specified, unless already done.

(f) MI for Blades and Hubs That Have an Updated Airworthiness Limitations Section (ALS)

For Hamilton Sundstrand Corporation propeller models 14RF-9, 14RF-21, 14SF-5, 14SF-7, 14SF-11E, and 568F-1, that have an approved update to the ALS, within 45 days after the effective date of this AD, perform an MI on the blades and hubs no later than seven years after the date since installation (DSI). The DSI will begin at initial installation after the most recent MI or initial installation after production. Guidance on the inspections can be found in the applicable Hamilton Sundstrand Corporation models/manuals 14RF-9/P5186, revision 12, January 20, 2012; 14RF-21/P5189, revision 8, February 20, 2013; 14SF-5/P5188, revision 10, dated January 14, 2013; 14SF-7/P5185, revision 13, dated December 13, 2011; 14SF-11E/P5207, revision 2, dated June 28, 2012; and 568F-1/P5206, revision 9, dated February 22, 2013.

(g) MI for Blades and Hubs That Do Not Have an Updated ALS

For Hamilton Standard Division propeller models 6/5500/F and 24PF and Hamilton Sundstrand Corporation propeller models 14RF-19, 14RF-37, 14SF-11, 14SF-15, 14SF-23, 14SF-17, 14SF-19, 247F-1, 247F-1E, 247F-3, 568F-1, 568F-5, and 568F-7, that do not have an approved update to the ALS, within one year after the effective date of this AD, perform an MI on the blades and hubs no later than seven years after the DSI. The DSI will begin at initial installation after the most recent MI or initial installation after production. Guidance on the inspections can be found in the applicable Hamilton Standard Division models/manuals 6/5500/F/P5190 and 24PF/61-12-01, and Hamilton Sundstrand Corporation models/manuals 14RF-19/P5199, 14RF-37/P5209, 14SF-11/P5196, 14SF-15/P5197, 14SF-23/P5197, 14SF-17/P5198, 14SF-19/P5198, 247F-1/P4202, 247F-1E/P5204, 247F-3/P5205, 568F-1/P5214, 568F-5/P5203, and 568F-7/P5211.

(h) Alternative Methods of Compliance (AMOCs)

The Manager, Boston Aircraft Certification Office, FAA, may approve AMOCs for this AD. Use the procedures found in 14 CFR 39.19 to make your request.

(i) Related Information

(1) For more information about this AD, contact Michael Schwetz, Aerospace Engineer, Boston Aircraft Certification Office, FAA, 12 New England Executive Park, Burlington, MA 01803; phone: 781-238-7761; fax: 781-238-7170; email: michael.schwetz@faa.gov.

(2) Hamilton Sundstrand Corporation models/manuals 14RF-9/P5186, revision 12, January 20, 2012; 14RF-21/P5189, revision 8, February 20, 2013; 14SF-5/P5188, revision 10, dated January 14, 2013; 14SF-7/P5185, revision 13, dated December 13, 2011; 14SF-11E/P5207, revision 2, dated June 28, 2012; and 568F-1/P5206, revision 9, dated February 22, 2013, which are not incorporated by reference in this AD, can be obtained from Hamilton Sundstrand Corporation, using the contact information in paragraph (i)(3) of this AD.

(3) For service information identified in the AD, contact Hamilton Sundstrand Corporation, One Hamilton Road, Mail Stop 1A-3-C63, Windsor Locks, CT 06096-1010; or Hamilton Standard Division, United Technologies Corporation, One Hamilton Road, Mail Stop 1A-3-C63, Windsor Locks, CT 06096-1010; phone: 877-808-7575; fax: 860-660-0372; email: tech.solutions@hs.utc.com; Internet: http://myhs.hamiltonsundstrand.com. You may view this service information at the FAA, Engine & Propeller Directorate, 12 New England Executive Park, Burlington, MA 01803. For information on the availability of this material at the FAA, call 781-238-7125.

(j) Material Incorporated by Reference

None.

Issued in Burlington, Massachusetts, on August 2, 2013.
Carlos A. Pestana,
Acting Assistant Directorate Manager, Engine & Propeller Directorate, Aircraft Certification Service.

[FR Doc. 2013-19649 Filed 8-9-13; 8:45 am]

BILLING CODE 4910-13-P